INTERNATIONAL TRADE COMMISSION

[USITC SE-13-020]

Sunshine Act Meetings

AGENCY HOLDING THE MEETING: United States International Trade Commission.

TIME AND DATE: August 23, 2013 at 11:00 a.m.

PLACE: Room 101, 500 E Street SW., Washington, DC 20436, Telephone: (202) 205-2000.

STATUS: Open to the public.

MATTERS TO BE CONSIDERED: 1. Agendas for future meetings: none.

2. Minutes.

3. Ratification List.

4. Vote in Inv. Nos. 731-TA-929-931 (Second Review) (Silicomanganese from India, Kazakhstan, and Venezuela). The Commission is currently scheduled to complete and file its determinations and views of the Commission on or before September 12, 2013.

5. Outstanding action jackets: none.

In accordance with Commission policy, subject matter listed above, not disposed of at the scheduled meeting, may be carried over to the agenda of the following meeting.

Issued: August 14, 2013.
By order of the Commission.
William R. Bishop,
Supervisory Hearings and Information Officer.

[FR Doc. 2013-20108 Filed 8-14-13; 11:15 am]

BILLING CODE 7020-02-P